DEPARTMENT OF COMMERCE

International Trade Administration

[A-570-929]

Small Diameter Graphite Electrodes From the People's Republic of China: Final Results of Antidumping Duty Administrative Review and Final Determination of No Shipments; 2015-2016

AGENCY: Enforcement and Compliance, International Trade Administration, Department of Commerce.

SUMMARY: On October 21, 2016, the Department of Commerce (the Department) published the preliminary results of the seventh administrative review of the antidumping duty order on small diameter graphite electrodes (graphite electrodes) from the People's Republic of China (PRC). The Department preliminarily determined that the three manufacturers or exporters of the subject merchandise covered by the review, the Fangda Group, Fushun Jinly Petrochemical Carbon Co., Ltd. (Fushun Jinly), and Jilin Carbon Import and Export Company (Jilin Carbon), had no shipments of the subject merchandise during the period of review (POR). No interested party commented on the preliminary results. As a result, the Department has made no changes for the final results of this review.

DATES: Effective February 16, 2017.

FOR FURTHER INFORMATION CONTACT: Irene Gorelik or John Anwesen, AD/CVD Operations, Office VIII, Enforcement and Compliance, International Trade Administration, U.S. Department of Commerce, 1401 Constitution Ave. NW., Washington, DC, 20230; telephone (202) 482-6905 or (202) 482-0131, respectively.

SUPPLEMENTARY INFORMATION:

Background

This review covers three manufacturers or exporters of the subject merchandise: The Fangda Group,¹ Fushun Jinly,² and Jilin Carbon. On October 21, 2016, the Department published the Preliminary Results.³ We invited parties to comment on the Preliminary Results. No interested party submitted comments. The Department conducted this administrative review in accordance with section 751 of the Tariff Act of 1930, as amended (the Act).

¹ The Fangda Group consists of the following five companies: Beijing Fangda Carbon Tech Co., Ltd., Chengdu Rongguang Carbon Co., Ltd., Fangda Carbon New Material Co., Ltd., Fushun Carbon Co., Ltd., and Hefei Carbon Co., Ltd. See Initiation of Antidumping and Countervailing Duty Administrative Reviews, 81 FR 20324, 29341 (April 7, 2016) (initiating a review of the Fangda Group for the 2015-2016 period of review); see also Small Diameter Graphite Electrodes from the People's Republic of China: Preliminary Determination of Sales at Less Than Fair Value, Postponement of Final Determination, and Affirmative Preliminary Determination of Critical Circumstances, in Part, 73 FR 49408, 49411-12 (August 21, 2008) (where the Department determined that the individual members of the Fangda Group should be treated as a single entity pursuant to 19 CFR 351.401(f)(1)), unchanged in Final Determination of Sales at Less Than Fair Value and Affirmative Determination of Critical Circumstances: Small Diameter Graphite Electrodes from the People's Republic of China, 74 FR 2049 (January 14, 2009).

² In the Preliminary Results the Department inadvertently refered to Fushun Jinly as Fushun Jinly Petrochemical Co., Ltd. instead of Fushun Jinly Petrochemical Carbon Co., Ltd. See Small Diameter Graphite Electrodes from the People's Republic of China: Preliminary Results of Antidumping Duty Administrative Review; 2015-2016, 81 FR 72777 (October 21, 2016) (Preliminary Results).

³ See id.

Scope of the Order

The merchandise covered by the order includes all small diameter graphite electrodes of any length, whether or not finished, of a kind used in furnaces, with a nominal or actual diameter of 400 millimeters (16 inches) or less, and whether or not attached to a graphite pin joining system or any other type of joining system or hardware. The merchandise covered by the order also includes graphite pin joining systems for small diameter graphite electrodes, of any length, whether or not finished, of a kind used in furnaces, and whether or not the graphite pin joining system is attached to, sold with, or sold separately from, the small diameter graphite electrode. Small diameter graphite electrodes and graphite pin joining systems for small diameter graphite electrodes are most commonly used in primary melting, ladle metallurgy, and specialty furnace applications in industries including foundries, smelters, and steel refining operations. Small diameter graphite electrodes and graphite pin joining systems for small diameter graphite electrodes that are subject to the order are currently classified under the Harmonized Tariff Schedule of the United States (HTSUS) subheadings 8545.11.0010,⁴ 3801.10,⁵ and 8545.11.0020.⁶ Although the HTSUS subheadings are provided for convenience and customs purposes, the written description of the merchandise is dispositive.

⁴ The scope described in the order refers to the HTSUS subheading 8545.11.0000. We note that, starting in 2010, imports of small diameter graphite electrodes are classified in the HTSUS under subheading 8545.11.0010 and imports of large diameter graphite electrodes are classified under subheading 8545.11.0020.

⁵ HTSUS subheading 3801.10 was added to the scope of the graphite electrodes order based on a determination in Small Diameter Graphite Electrodes from the People's Republic of China: Affirmative Final Determination of Circumvention of the Antidumping Duty Order, 77 FR 47596 (August 9, 2012) (first circumvention determination). The products covered by the first circumvention determination are graphite electrodes (or graphite pin joining system) that were (1) produced by UK Carbon and Graphite Co., Ltd. (UKCG) from PRC-manufactured artificial/synthetic graphite forms, of a size and shape (e.g., blanks, rods, cylinders, billets, blocks, etc.), (2) which required additional machining processes (i.e., tooling and shaping) that UKCG performed in the United Kingdom (UK), and (3) were re-exported to the United States as UK-origin merchandise.

⁶ HTSUS subheading 8545.11.0020 was added to the scope of the graphite electrodes order based on a determination in Small Diameter Graphite Electrodes from the People's Republic of China: Affirmative Final Determination of Circumvention of the Antidumping Duty Order and Rescission of Later-Developed Merchandise Anticircumvention Inquiry, 78 FR 56864 (September 16, 2013) (second circumvention determination). The products covered by the second circumvention determination are graphite electrodes produced and/or exported by Jilin Carbon Import and Export Company with an actual or nominal diameter of 17 inches.

Period of Review

The period of review is February 1, 2015, through January 31, 2016.

Final Determination of No Shipments

In the Preliminary Results, the Department preliminarily determined that the Fangda Group, Fushun Jinly, and Jilin Carbon had no shipments during the POR.⁷ Consistent with the Department's assessment practice in non-market economy cases, we stated in the Preliminary Results that the Department would not rescind the review in these circumstances but, rather, would complete the review with respect to these three respondents and issue appropriate instructions to U.S. Customs and Border Protection (CBP) based on the final results of the review. Following publication of the Preliminary Results, we received no comments from interested parties regarding these companies, nor did we receive information from CBP indicating that there were reviewable transactions from the three respondents during the POR. Because there are no changes from, or comments on, the Preliminary Results, the Department finds that there is no reason to modify its analysis. Therefore, we continue to find that Fangda Group, Fushun Jinly, and Jilin Carbon did not have reviewable transactions during the POR.

⁷ See Preliminary Results, 81 FR at 72778.

Assessment Rates

The Department shall determine, and CBP shall assess, antidumping duties on all appropriate entries, in accordance with section 751(a)(2)(A) of the Act and 19 CFR 351.212(b). The Department intends to issue appropriate assessment instructions for the respondents subject to this review directly to CBP 15 days after the date of publication of the final results of this review. The Department has determined that the Fangda Group, Fushun Jinly, and Jilin Carbon had no shipments of subject merchandise; therefore, pursuant to the Department's practice in non-market economy cases, any suspended entries of subject merchandise during the POR from these companies will be liquidated at the PRC-wide rate.⁸

⁸ For a full discussion of this practice, see Non-Market Economy Antidumping Proceedings: Assessment of Antidumping Duties, 76 FR 65694 (October 24, 2011).

Cash Deposit Requirements

The following cash deposit requirements, which are currently in effect, will remain in effect for all shipments of the subject merchandise entered, or withdrawn from warehouse, for consumption on or after the publication date of the final results of this administrative review, as provided by section 751(a)(2)(C) of the Act: (1) For previously investigated or reviewed PRC and non-PRC exporters that received a separate rate in a prior segment of this proceeding, the cash deposit rate will continue to be the existing exporter-specific rate; (2) for all PRC exporters of subject merchandise that have not been found to be entitled to a separate rate, the cash deposit rate will be the PRC-wide rate of 159.64 percent; and (3) for all non-PRC exporters of subject merchandise which have not received their own rate, the cash deposit rate will be the rate applicable to the PRC exporter that supplied the non-PRC exporter. These deposit requirements shall remain in effect until further notice.

Notification to Importers

This notice also serves as a final reminder to importers of their responsibility under 19 CFR 351.402(f) to file a certificate regarding the reimbursement of antidumping duties prior to liquidation of the relevant entries during this review period. Failure to comply with this requirement could result in the Department's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are published in accordance with sections 751(a)(1) and 777(i)(1) of the Act and 19 CFR 351.221.

Dated: February 10, 2017.
Ronald K. Lorentzen,
Acting Assistant Secretary for Enforcement and Compliance.

[FR Doc. 2017-03141 Filed 2-15-17; 8:45 am]

BILLING CODE 3510-DS-P